CORPORATION FOR NATIONAL AND COMMUNITY SERVICE

Proposed Revision of the Corporation for National and Community Service Strategic Plan; Request for Input

AGENCY: Corporation for National and Community Service.

ACTION: Notice of Request for Information (RFI).

SUMMARY: The Corporation for National and Community Service (operating as AmeriCorps) invites the public to provide input into its proposed Strategic Plan for fiscal years 2026-2030.

DATES: Comments must be received within 15 days from posting of this notice. AmeriCorps will consider comments filed after this date to the extent practicable.

ADDRESSES: Written comments may be submitted electronically or via U.S. mail. Respondents are encouraged to submit comments electronically to ensure timely receipt. Please include your name, title, organization, postal address, telephone number, and email address.

Electronic Submission (preferred): Go to http://www.regulations.gov. Search by using the docket number (provided above). Follow the instructions for submitting comments on the electronic docket site.

Email: KHussey-Sloniker@americorps.gov. Please include the full body of your comments in the text of the electronic message and as an attachment.

Mail: AmeriCorps, Katy Hussey-Sloniker, 250 E Street SW, Washington, DC 20525.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Katy Hussey-Sloniker, Office of Research and Evaluation, KHussey-Sloniker@americorps.gov.

SUPPLEMENTARY INFORMATION: AmeriCorps is inviting input from the public concerning the draft 2026-2030 Strategic Plan. The goal is to accurately reflect AmeriCorps' strategic and programmatic priorities for the next four years.

AmeriCorps' proposed 2026-2030 Strategic Plan [https://americorps.gov/sites/default/files/document/2026-01/2026_2030_Strategic_Plan_Final_Draft_Jan2026.pdf] leverages the strength of national service volunteers, agency partners, and the American public to build a network of programs that offer effective solutions in six priority areas: Disaster Services, Economic Opportunity, Education, Environmental Stewardship, Healthy Futures, and Veterans and Military Families. We will produce these results by investing in effective local initiatives, engaging more Americans in volunteer service, supporting evidence-based programs, and leveraging public-private partnerships.

• AmeriCorps invites the public to provide comments to inform the Strategic Plan for FY 2026-2030. In particular, comments may respond to any or all of the following questions: How might the Strategic Plan be updated to reflect current community priorities?

• How can AmeriCorps best create value for its activities with stakeholders? What agency priorities are less relevant in today's environment, allowing resources to be focused elsewhere?

AmeriCorps anticipates that the final Strategic Plan for FY 2026-2030 will be posted on the AmeriCorps website around February 2026.

This notice is published under the authority of the Government Performance and Results Act (GPRA) of 1993 (Pub. L. 103-62), as amended by the GPRA Modernization Act of 2010 (Pub. L. 111-352), and Office of Management and Budget Circular No. A-11 (2025).

Jennifer Bastress,
Interim Agency Head.

[FR Doc. 2026-01518 Filed 1-26-26; 8:45 am]

BILLING CODE 6050-28-P